GENERAL SERVICES ADMINISTRATION

[OMB Control No. 3090-0278]; [Docket 2016-0001; Sequence 5]

Submission for OMB Review; USA.gov National Contact Center Customer Evaluation Survey

AGENCY: USA.gov Contact Center, General Services Administration (GSA).

ACTION: Notice of request for comments regarding an extension to an existing OMB clearance.

SUMMARY: Under the provisions of the Paperwork Reduction Act, the Regulatory Secretariat Division will be submitting to the Office of Management and Budget (OMB) a request to review and approve an extension of a previously approved information collection requirement regarding the National Contact Center customer evaluation surveys. A notice was published in the Federal Register at 81 FR 48797 on July 26, 2016. No comments were received.

DATES: Submit comments on or before: January 9, 2017.

FOR FURTHER INFORMATION CONTACT: Mr. David Kaufmann, Federal Information Specialist, Office of Citizen Services and Communications, at telephone 202-357-9661 or via email to david.kaufmann@gsa.gov.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB control number. Select the link “Submit a Comment” that corresponds with “Information Collection 3090-0278, National Contract Center Evaluation Survey”. Follow the instructions provided at the “Submit a Comment” screen. Please include your name, company name (if any), and “Information Collection 3090-0278, National Contract Center Evaluation Survey” on your attached document.

• Mail: General Services Administration, Regulatory Secretariat Division (MVCB), 1800 F Street NW., Washington, DC 20405. ATTN: Ms. Flowers/IC 3090-0278, National Contract Center Evaluation Survey.

Instructions: Please submit comments only and cite Information Collection 3090-0278, National Contract Center Evaluation Survey, in all correspondence related to this collection. Comments received generally will be posted without change to http://www.regulations.gov, including any personal and/or business confidential information provided. To confirm receipt of your comment(s), please check www.regulations.gov, approximately two to three days after submission to verify posting (except allow 30 days for posting of comments submitted by mail).

SUPPLEMENTARY INFORMATION:

A. Purpose

This information collection will be used to assess the public's satisfaction with the USA.gov National Contact Center service(formerly the Federal Citizen Information Center's (FCIC) National Contact Center), to assist in increasing the efficiency in responding to the public's need for Federal information, and to assess the effectiveness of marketing efforts.

B. Annual Reporting Burden

The following are estimates of the annual hourly burdens for our surveys based on historical participation in our surveys.

(1) Telephone Survey:

Respondents: 6000.

Responses per Respondent: 1.

Annual Responses: 6000.

Hours per Response: 0.12.

Total Burden Hours: 720.

(2) Web Chat Survey:

Respondents: 2400.

Responses per Respondent: 1.

Annual Responses: 2400.

Hours per Response: 0.12.

Total Burden Hours: 288.

(3) Email Survey:

Respondents: 3600.

Responses per Respondent: 1.

Annual Responses: 3600.

Hours per Response: 0.12.

Total Burden Hours: 432.

Grand Total Burden Hours: 1440.

C. Public Comments

Public comments are particularly invited on: Whether this collection of information is necessary and whether it will have practical utility; whether our estimate of the public burden of this collection of information is accurate and based on valid assumptions and methodology; and ways to enhance the quality, utility, and clarity of the information to be collected.

OBTAINING COPIES OF PROPOSALS: Requesters may obtain a copy of the information collection documents from the General Services Administration, Regulatory Secretariat Division (MVCB), 1800 F Street NW., Washington, DC 20405, telephone 202-501-4755. Please cite OMB Control No. 3090-0278, National Contact Center Customer Evaluation Survey, in all correspondence.

Dated: November 4, 2016.
David A. Shive,
Chief Information Officer.

[FR Doc. 2016-27064 Filed 11-8-16; 8:45 am]

BILLING CODE 6820-CX-P